DEPARTMENT OF AGRICULTURE

Submission for OMB Review; Comment Request

July 5, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Farm Storage Facility Loan Program.

OMB Control Number: 0560-0204.

Summary Of Collection: 7 CFR part 1436 authorizes the Farm Service Agency (FSA) to administer the Commodity Credit Corporation (CCC) Farm Storage Facility Loan Program (FSFLP). The regulations provide terms and conditions in which CCC may provide low-cost financing for producers to build or upgrade on-farm storage and handling facilities. Producers requesting loans must provide information regarding the need for farm storage capacity and the storage facility they propose to construct. The information is needed to determine if the farmer has a need for the proposed capacity and the proposed structure. FSA will collect information using several forms.

Need and Use of the Information: FSA will collect following the information from producers to establishes their eligibility for the program: financial information, credit rating, and information establishing that the structure they propose is not in conflict with local land use laws. The information is needed by CCC to make loans to farmers who have a bonafide storage need and to make loans that will be repaid on time. If the information is not collected, the producer may not receive the full benefits of the program.

Description of Respondents: Farms; Individuals or households; Business or other for-profit; State, Local or Tribal Government.

Number of Respondents: 2,000.

Frequency of Responses: Reporting: Other (once).

Total Burden Hours: 3,820.

Ruth Brown,
Departmental Information Collection Clearance Officer.

[FR Doc. E6-10715 Filed 7-7-06; 8:45 am]

BILLING CODE 3410-05-P